DEPARTMENT OF COMMERCE

National Oceanic and Atmospheric Administration

[RTID 0648-XB277]

Marine Mammals; File No. 25739

AGENCY: National Marine Fisheries Service (NMFS), National Oceanic and Atmospheric Administration (NOAA), Commerce.

ACTION: Notice; receipt of application.

SUMMARY: Notice is hereby given that New England Aquarium, Central Wharf, Boston, MA 02110 (Responsible Party: Vikki Spruill), has applied in due form for a permit to conduct research on North Atlantic right whales (Eubalaena glacialis).

DATES: Written, telefaxed, or email comments must be received on or before August 30, 2021.

ADDRESSES: The application and related documents are available for review by selecting “Records Open for Public Comment” from the “Features” box on the Applications and Permits for Protected Species (APPS) home page, https://apps.nmfs.noaa.gov, and then selecting File No. 25739 from the list of available applications. These documents are also available upon written request via email to NMFS.Pr1Comments@noaa.gov.

Written comments on this application should be submitted via email to NMFS.Pr1Comments@noaa.gov. Please include File No. 25739 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on North Atlantic right whales in U.S. and international waters of the North Atlantic Ocean. The objectives of the research are to assess, quantify, and track trends in the demographic characteristics of North Atlantic right whales, as well as identifying, quantifying and monitoring the long term trends in anthropogenic impacts on the species. North Atlantic right whales may be taken during vessel and aerial surveys, including an unmanned aircraft system, for counts, photo-identification, photography, videography, photogrammetry, thermal imaging, behavioral observations, passive acoustic recordings, and biological sampling (exhaled air, feces, sloughed skin, and skin and blubber biopsies). Samples may be imported and exported for analysis. Fin whales (Balaenoptera physalus), humpback whales (Megaptera novaeangliae), Atlantic white-sided dolphins (Lagenorhynchus acutus), and harbor porpoise (Phocoena phocoena) may be unintentionally harassed during right whale research. See the application for complete numbers of animals requested by species, life stage, and procedure. The permit is requested for 5 years.

In compliance with the National Environmental Policy Act of 1969 (42 U.S.C. 4321 et seq.), an initial determination has been made that the activity proposed is categorically excluded from the requirement to

Concurrent with the publication of this notice in the Federal Register, NMFS is forwarding copies of the application to the Marine Mammal Commission and its Committee of Scientific Advisors.

Dated: July 26, 2021.
Julia Marie Harrison,
Chief, Permits and Conservation Division, Office of Protected Resources, National Marine Fisheries Service.

[FR Doc. 2021-16300 Filed 7-29-21; 8:45 am]

BILLING CODE 3510-22-P